DEPARTMENT OF HOMELAND SECURITY

Federal Emergency Management Agency

44 CFR Part 67

[Docket No. FEMA-B-1021]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before February 23, 2009.

ADDRESSES: The corresponding preliminary Flood Insurance Rate Map (FIRM) for the proposed BFEs for each community are available for inspection at the community's map repository. The respective addresses are listed in the table below.

You may submit comments, identified by Docket No. FEMA-B-1021, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) # Depth in feet above ground: Effective | * Elevation in feet (NGVD) + Elevation in feet (NAVD) # Depth in feet above ground: Modified | Communities affected
Garland County, Arkansas, and Incorporated Areas
Molly Creek | Weston Road | +410 | +409 | City of Hot Springs.
| Approximately 450 feet upstream of Albert Pike Road/US 270 | +541 | +544
Molly Creek Tributary 1 | Stover Road (Formerly Marie St.) | +486 | +484 | City of Hot Springs.
| Molly Springs Road | +508 | +506
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Hot Springs
Maps are available for inspection at Garland County Library, 1427 Malvern Ave., Hot Springs, AR 71901.
White County, Arkansas, and Incorporated Areas
Deener Creek | Ella Street | None | +237 | Unincorporated Areas of White County.
| Approximately 1994 feet upstream from Ella Street. | None | +240
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of White County
Maps are available for inspection at 119 West Arch Avenue, Searcy, AR 72143.
Barrow County, Georgia, and Incorporated Areas
Apalachee River | Approximately 5,345 feet upstream of Loganville Highway | None | +820 | Unincorporated Areas of Barrow County, City of Auburn.
| Approximately 1,140 feet upstream of CSX Railroad | None | +905
Cedar Creek | Approximately 1,220 feet downstream of Miles Patrick Road | None | +820 | Unincorporated Areas of Barrow County, City of Winder.
| Approximately 470 feet downstream of Miles Patrick Road | None | +822
Tributary No. 1 | At the confluence with Cedar Creek | None | +822 | Unincorporated Areas of Barrow County, City of Winder.
| Approximately 50 feet downstream of Sims Road | None | +840
Winder Reservoir | Entire Shoreline | None | +850 | Unincorporated Areas of Barrow County.
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Auburn
Maps are available for inspection at City Hall, 1369 Fourth Avenue, Auburn, GA 30011.
City of Winder
Maps are available for inspection at Inspections Department, 23 North Jackson Street, Winder, GA 30680.
Unincorporated Areas of Barrow County
Maps are available for inspection at Annex Building, 223 East Broad Street, Winder, GA 30680.
Franklin County, Illinois, and Incorporated Areas
Big Ditch Tributary | From approximately 2,630 feet upstream of the confluence with Middle Fork Big Muddy River | None | +382 | Unincorporated Areas of Franklin County, City of West Frankfort.
| To approximately 790 feet downstream of County Highway 37/Logan Street | None | +388
Ewing Creek | From approximately 5,000 feet upstream of the confluence with Middle Fork Big Muddy River | None | +385 | Unincorporated Areas of Franklin County, City of West Frankfort.
| To approximately 2,500 feet upstream of County Highway 5/Deering Road | None | +393
Pond Creek | From Interstate 57 | None | +394 | Unincorporated Areas of Franklin County, City of West Frankfort.
| To approximately 2,250 feet upstream of Old Johnston City Road | None | +398
Rend Lake | From the Rend Lake Dam | None | +415 | Unincorporated Areas of Franklin County.
| To approximately 5,650 feet west of the intersection of North County Line Road and Conservation Lane | None | +415
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of West Frankfort
Maps are available for inspection at West Frankfort City Hall, 110 N. Jefferson Street, West Frankfort, IL 62896.
Unincorporated Areas of Franklin County
Maps are available for inspection at Franklin County Highway Department, 13034 Oddfellow Lane, Benton, IL 62812.
Lyon County, Kentucky, and Incorporated Areas
Cumberland River (Lake Barkley) | At Barkley Dam | None | +375 | Unincorporated Areas of Lyon County.
| At confluence with Hurricane Creek (Southern county boundary) | None | +375
Tennessee River (Kentucky Lake) | Approximately 500 feet downstream Barkley Canal | None | +375 | Unincorporated Areas of Lyon County.
| Approximately 3200 feet upstream Duncan Creek | None | +375
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Lyon County
Maps are available for inspection at 500A W. Dale Ave., Eddyville, KY 42038.
Menifee County, Kentucky, and Incorporated Areas
Licking River (Cave Run Lake) | At confluence with Buck Creek | None | +765 | City of Frenchburg.
| At confluence with North Fork Licking River | None | +765
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Frenchburg
Maps are available for inspection at 157 Old Campus Road, Frenchburg, KY 40322.
Curry County, New Mexico, and Incorporated Areas
Northeast Drain | Approximately 645 feet upstream from Schepps Blvd | +4222 | +4225 | City of Clovis.
| Approximately from the intersection of Merlene Blvd | +4234 | +4236
Northeast Drain | Approximately 5,276 feet downstream from Humphry Road | None | +4216 | Unincorporated Areas of Curry County.
| At the confluence of West Second Street Drain | None | +4217
Thomas Ditch 1 | At the intersection of Brady Avenue | None | +4262 | Unincorporated Areas of Curry County.
| At the intersection of the Burlington Northern Santa Fe Railroad | None | +4280
West Second Street Drain | At the confluence of Northeast Drain | None | +4217 | Unincorporated Areas of Curry County.
| Approximately 268 feet upstream from Norris Road | None | +4232
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Clovis
Maps are available for inspection at 321 Connelly, Clovis, NM 88101.
Unincorporated Areas of Curry County
Maps are available for inspection at 321 Connelly, Clovis, NM 88102.
Dona Ana County, New Mexico, and Incorporated Areas
Baylor Canyon Arroyo | At the upstream face of U.S. Highway 70 Bridge | None | +4604 | Unincorporated Areas of Dona Ana County.
| Approximately 3,375 feet upstream of confluence with Baylor Canyon Arroyo Tributary 1 | None | +4797
Baylor Canyon Arroyo Tributary 1 | At confluence with Baylor Canyon Arroyo | None | +4713 | Unincorporated Areas of Dona Ana County.
| Approximately 3,800 feet above confluence with Baylor Canyon Arroyo | None | +4823
Baylor Canyon Arroyo Tributary 2 | At confluence with Baylor Canyon Arroyo | None | +4668 | Unincorporated Areas of Dona Ana County.
| Approximately 6,850 feet upstream of confluence with Baylor Canyon Arroyo | None | +4806
Flow Path 1 | At upstream face of Sand Hill Dam (Chandler Tank) | None | +4317 | City of Las Cruces.
| At intersection of Main St. and Sand Hill Arroyo (Flowpath 1) | None | +4462
Flow Path 12 | At Interstate 10 Southbound frontage road (Las Alturas) | +3965 | +3966 | Unincorporated Areas of Dona Ana County, City of Las Cruces.
| Approximately 7,470 feet upstream of Tellbrook Road | None | +4189
Flow Path 3 | Approximately 4932 feet downstream from the confluence of North Tributary 2 and Flow Path 3 | +4186 | +4188 | City of Las Cruces.
| Approximately 200 feet downstream from the Alameda Dam | None | +4252
North Branch Gardner Arroyo | Approximately 675 feet upstream of intersection of McNutt Road and Alvarez Road | None | +3781 | Unincorporated Areas of Dona Ana County.
| Approximately 3,875 feet upstream of intersection of McNutt Road and Alvarez Road | None | +3835
North Vado Arroyo | At confluence with Unnamed Drainage | None | +3826 | Unincorporated Areas of Dona Ana County.
| At downstream face of Interstate 10 Bridge | None | +3900
South Branch of Gardner Arroyo | Approximately 580 feet upstream of McNutt Road and Alvarez Road | None | +3784 | Unincorporated Areas of Dona Ana County.
| Approximately 5,190 feet upstream of intersection of McNutt Road and Alvarez Road | None | +3831
South Vado Arroyo | At confluence with Unnamed Drainage | None | +3822 | Unincorporated Areas of Dona Ana County.
| At downstream face of Interstate 10 Bridge | None | +3871
Stream Bilbo | At Bilbo Pond Spillway at Mesilla Hills Road | None | +3895 | Unincorporated Areas of Dona Ana County, Town of Mesilla.
| At Lake Maureen Spillway | None | +4144
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Las Cruces
Maps are available for inspection at 200 North Church St., Las Cruces, NM 88001.
Town of Mesilla
Maps are available for inspection at Calle de Parian, P.O. Box 10, Mesilla, NM 88046.
Unincorporated Areas of Dona Ana County
Maps are available for inspection at 251 West Amador, Room 100B, Las Cruces, NM 88001.
Carter County, Oklahoma, and Incorporated Areas
Hickory Creek | Approximately 3528 feet downstream of the confluence of Hickory Creek Tributary A and Hickory Creek | None | +792 | Unincorporated Areas of Carter County.
| Approximately at the crosspoint of Breezewood Road and Hickory Creek | None | +795
Sand Creek Tributary B | Approximately 3045 feet downstream from the Carter 1 Dam | None | +791 | Unincorporated Areas of Carter County.
| Approximately at the intersection of Sand Creek Tributary B and Refinery Road. Approximately 3410 feet upstream from the Carter 1 Dam | None | +826
Wolf Creek | Approximately 3315 feet upstream from the confluence of Wolf Creek and Cottonwood Creek | None | +830 | Unincorporated Areas of Carter County.
| Approximately 1045 feet from the confluence of Wolf Creek Tributary 2 and Wolf Creek | None | +852
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Carter County
Maps are available for inspection at 20 B Street, SW., #102, Ardmore, OK 73401.
Muskogee County, Oklahoma, and Incorporated Areas
Arkansas River | Approximately 1371 feet downstream of State Highway 104 | None | +553 | Muskogee County.
| Approximately 1625 feet upstream of State Highway 104 | None | +554
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Muskogee County
Maps are available for inspection at Muskogee County Courthouse, 4517 Dennison Street, Muskogee, OK 74402.
Waupaca County, Wisconsin, and Incorporated Areas
Little Wolf River/Big Falls Pond | 0.33 mile downstream of bridge at County Highway G | +880 | +879 | Village of Big Falls, Unincorporated Areas of Waupaca County.
| 1.1 miles upstream of bridge at County Highway G | +909 | +910
Waupaca River/Weyau- wega Lake | 2.65 miles upstream of confluence with Wolf River | +757 | +756 | City of Waupaca, City of Weyauwega, Unincorporated Areas of Waupaca County
| 390 feet upstream of bridge at Anderson Road | None | +893
Wolf River | Southern Waupaca County boundary | None | +753 | Village of Fremont, Unincorporated Areas of Waupaca County.
| 3.58 miles downstream of bridge at County Highway X | +757 | +756
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Waupaca
Maps are available for inspection at 111 South Main Street, Waupaca, WI 54981.
City of Weyauwega
Maps are available for inspection at 109 East Main Street, Weyauwega, WI 54983.
Unincorporated Areas of Waupaca County
Maps are available for inspection at 811 Harding Street, Waupaca, WI 54981.
Village of Big Falls
Maps are available for inspection at 220 Main Street, Big Falls, WI 54926.
Village of Fremont
Maps are available for inspection at 317 Wolf River Drive, Fremont, WI 54940.

(Catalog of Federal Domestic Assistance No. 97.022, “Flood Insurance.”)

Dated: November 14, 2008.
Michael K. Buckley,
Acting Assistant Administrator, Mitigation Directorate, Department of Homeland Security, Federal Emergency Management Agency.

[FR Doc. E8-27811 Filed 11-21-08; 8:45 am]

BILLING CODE 9110-12-P